DEPARTMENT OF THE INTERIOR

Bureau of Reclamation

[RR09600000, 23XR0680G1, RX.15234000.4000001]

Tribal Notice To Consult on Implementation of the Inflation Reduction Act

AGENCY: Bureau of Reclamation, Interior.

ACTION: Notice of Tribal consultation and request for comments.

SUMMARY: The Bureau of Reclamation (Reclamation) is publishing this notice to announce that Reclamation plans to consult with federally recognized Indian Tribes in Reclamation's 17 western states on implementation of the Inflation Reduction Act as it applies to Tribes.

DATES: The Tribal consultation will be held virtually on Tuesday, January 24, 2023, from 2 p.m. to approximately 5 p.m. (MST). Additional consultations will be scheduled and announced through a future Federal Register notice in the months ahead. Submit comments on the consultation on or before January 31, 2023.

ADDRESSES: The virtual meeting held on Tuesday, January 24, 2023, may be accessed at https://usbr.gov/native/tribal_consultation.html. To call into the meeting by phone (audio only): Call-in phone number: (202) 640-1187; Conference ID: 192299827#.

Send written comments on the consultation to USBR.IR.Act@usbr.gov.

FOR FURTHER INFORMATION CONTACT: Mr. Jeffrey K. Morris, Program Manager, Native American and International Affairs Office, Bureau of Reclamation, telephone (303) 445-3373, email at jmorris@usbr.gov. Individuals who are deaf, deafblind, hard of hearing, or have a speech disability may dial 711 (TTY, TDD, or TeleBraille) to access telecommunications relay services.

SUPPLEMENTARY INFORMATION: Under the Inflation Reduction Act of 2022, Reclamation received $550 million for Domestic Water Projects, $25 million for Canal Improvements Projects, and $4 billion for the Drought Mitigation in the Reclamation states (Arizona, California, Colorado, Idaho, Kansas, Montana, Nebraska, Nevada, New Mexico, North Dakota, Oklahoma, Oregon, South Dakota, Texas, Utah, Washington, and Wyoming). Federally recognized Indian Tribes located in the Reclamation states are eligible to participate in all of these programs. Reclamation also received $12.5 million for Emergency Drought Relief for Tribes that are impacted by the operation of a Reclamation water project in the 17 western states.

Reclamation conducted a listening session on the Inflation Reduction Act for Tribes on September 30, 2022. Material provided in the listening session and additional information on the impacts of the Inflation Reduction Act on Reclamation is posted at this website: https://www.usbr.gov/inflation-reduction-act/.

Reclamation is making it a priority to garner input from Tribal leaders on the important opportunities and decisions related to the Inflation Reduction Act as it relates to Indian Tribes in the Reclamation states. These programs will be implemented over a few years, which may require that we consult at multiple decision points. With this consultation, Reclamation is seeking Tribal input to inform early planning decisions.

Public Disclosure of Comments: Before including your address, phone number, email address, or other personal identifying information in your comment, you should be aware that your entire comment—including your personal identifying information—may be made publicly available at any time. While you can ask us in your comment to withhold your personal identifying information from public review, we cannot guarantee that we will be able to do so.

Kelly Titensor,
Acting Program Manager, Native American and International Affairs Office, Commissioner's Office-U.S. Bureau of Reclamation.

[FR Doc. 2022-28239 Filed 12-27-22; 8:45 am]

BILLING CODE 4332-90-P